NUCLEAR REGULATORY COMMISSION

[Docket No. 50-391; NRC-2022-0111]

Tennessee Valley Authority; Watts Bar Nuclear Plant, Unit 2; Correction

AGENCY: Nuclear Regulatory Commission.

ACTION: Exemption; issuance; correction.

SUMMARY: The U.S. Nuclear Regulatory Commission is correcting a notice that was published in the Federal Register (FR) on May 6, 2022, regarding the exemption issuance for Tennessee Valley Authority, Watts Bar Nuclear Plant, Unit 2. This action is necessary to correct the NRC Docket ID in the notice title and ADDRESSES section.

DATES: May 12, 2022.

ADDRESSES: Please refer to Docket ID NRC-2022-0111 when contacting the NRC about the availability of information regarding this document. You may obtain publicly available information related to this document using any of the following methods:

• Federal Rulemaking Website: Go to https://www.regulations.gov and search for Docket ID NRC-2022-0111. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The Request for Exemption from Requirements of paragraph 26.205(d)(4) of title 10 of the Code of Federal Regulations (10 CFR), 26.206(d)(6), and 10 CFR 26.205(d)(7) is available in ADAMS under Accession No. ML22105A579. The Watts Bar Nuclear Plant, Unit 2—Response to Request for Additional Information and Clarification Regarding Request for Exemption from Requirements of 10 CFR 26.205(d)(4), 26.205(d)(6) and 26.205(d)(7), “Fitness for Duty Programs—Work Hours,” is available in ADAMS under Accession No. ML22115A232.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

FOR FURTHER INFORMATION CONTACT: Kimberly Green, Office of Nuclear Reactor Regulation, U.S. Nuclear Regulatory Commission, Washington, DC 20555-0001, telephone: 301-415-1627, email: Kimberly.Green@nrc.gov.

SUPPLEMENTARY INFORMATION: In the FR on May 6, 2022, in FR Doc. 2022-09709, on page 27190, in the notice title after agency name, correct “NRC-2021-0104” to read “NRC-2022-0111.” In the ADDRESSES section, correct “NRC-2021-0104” to read “NRC-2022-0111.”

Dated: May 9, 2022.
For the Nuclear Regulatory Commission.
Kimberly J. Green,
Senior Project Manager, Plant Licensing Branch II-2, Division of Operating Reactor Licensing, Office of Nuclear Reactor Regulation.

[FR Doc. 2022-10197 Filed 5-11-22; 8:45 am]

BILLING CODE 7590-01-P